FEDERAL TRADE COMMISSION

Granting of Request for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination of the waiting period provided by law and the premerger notification rules. The grants were made by the Federal Trade Commission and the Assistant Attorney General for the Antitrust Division of the Department of Justice. Neither agency intends to take any action with respect to these proposed acquisitions during the applicable waiting period.

Trans # | Acquiring | Acquired | Entities
Transactions Granted Early Termination_04/17/2001
20011672 | The Sisters of Charity of St. Augustine, Health System, Inc | HCA-The Healthcare Company | Columbia/HCA Healthcare Corporation of South Carolina.
20011700 | The Sage Group plc | Interact Commerce Corporation | Interact Commerce Corporation.
20011708 | Ford Motor Company | Seth M. Siegel | The Beanstalk Group (Europe).
|  |  | The Beanstalk Group Inc. (DE).
|  |  | The Beanstalk Group Inc. (NY).
20011709 | Ford Motor Company | Michael S. Stone | The Beanstalk Group, Inc.
Transactions Granted Early Termination—04/18/2001
20011711 | MedAssets.com, Inc | Earl H. Norman | Health Services Corporation of America.
20011718 | Church & Dwight Co., Inc | USA Detergents, Inc | USA Detergents, Inc.
Transactions Granted Early Termination—04/20/2001
20011662 | Smiths Group plc | Barringer Technologies Inc | Barringer Technologies Inc.
20011696 | Littlejohn Fund II, L.P | Magne Tek Inc | Magne Tek Asia Ltd., Magne Tek.
|  |  | Electronics China Co. Ltd.
|  |  | Magne Tek Componentes Electricos, S.A. de C.V.
|  |  | Magne Tek Matamoras, S.A. de C.V.
20011715 | Microsoft Corporation | Ensemble Studios Corporation | Ensemble Studios Corporation.
20011739 | Nautica Enterprises, Inc | Benjamin Freiwald | Earl Jean, Inc.
Transactions Granted Early Termination—04/23/2001
20011713 | LSI Logic Corporation | C-Cube Microsystems Inc | C-Cube Microsystems Inc.
20011720 | Normandy Mining Limited ACN 009 295 765 | Franco-Nevada Mining Corporation Limited | Midas Joint Venture, Inc.
20011722 | Illinois Tool Works Inc. | Foilmark, Inc | Foilmark, Inc.
20011725 | The Stanley Works | Global Private Equity III Limited Partnership | Contact East, Inc.
20011726 | Protective Industries, LLC | MIV Holdings, S.A | Mark IV Industries, Inc.
20011728 | General Electric Company | Paragon Leasing | Paragon Leasing
Transactions Granted Early Termination—04/25/2001
20011698 | Tyco International Ltd. | The CIT Group, Inc | The CIT Group, Inc.
20011721 | Cisco Systems, Inc | Velocita Corp | Velocita Corp.
Transactions Granted Early Termination—04/26/2001
20011693 | United Parcel Service, Inc | Miles Group, Inc | Miles Group, Inc.
Transactions Granted Early Termination—04/27/2001
20011548 | Xcel Energy Inc | Duke Energy Corporation | Duke Capital Corporation.
|  |  | Duke Energy Audrain, LLC.
20011649 | Royster-Clark Group, Inc | Land O'Lakes, Inc | Agro Distribution, LLC.
20011650 | Royster-Clark Group, Inc | Cenex Harvest States Cooperatives | Agro Distribution, LLC.
20011701 | Wells Fargo & Company | ACO Brokerage Holdings Corporation | ACO Brokerage Holdings Corporation.
20011714 | Micron Technology, Inc | Interland, Inc | Interland, Inc.
20011744 | Pilot Corporation | USX Corporation | Speedway SuperAmerica LLC.
20011745 | USX Corporation | Pilot Corporation | Pilot Corporation.

FOR FURTHER INFORMATION CONTACT: Sandra M. Peay or Parcellena P. Fielding, Contact Representatives, Federal Trade Commission, Premerger Notification Office, Bureau of Competition, Room 303, Washington, DC 20580, (202) 326-3100.

By Direction of the Commission.
Donald S. Clark,
Secretary.

[FR Doc. 01-12679 Filed 5-18-01; 8:45 am]

BILLING CODE 6750-01-M